DEPARTMENT OF COMMERCE

National Oceanic and Atmospheric Administration

RIN: 0648-XF37

Pacific Fishery Management Council; Public Meeting

AGENCY: National Marine Fisheries Service (NMFS), National Oceanic and Atmospheric Administration (NOAA), Commerce.

ACTION: Notice of a public meeting.

SUMMARY: The Pacific Fishery Management Council's (Council) Groundfish Allocation Committee (GAC) will hold a working meeting, which is open to the public.

DATES: The GAC meeting will be held Wednesday, February 20, 2008, from 1 p.m. until business for the day is completed. The GAC will reconvene Thursday, February 21, 2008, and Friday, February 22, 2008 at 8:30 a.m. each day until their business is completed.

ADDRESSES: The GAC meeting will be held at the Sheraton Portland Airport Hotel, Cascade A and B Room, 8235 N.E. Airport Way, Portland, OR 97220; telephone: (503) 281-2500.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the GAC meeting is to consider draft alternatives and other material for rationalizing the Pacific Coast limited entry groundfish trawl industry (trawl rationalization); consider alternatives, preliminary analyses, and other material for allocating Pacific Coast groundfish stocks and stock complexes to the various Pacific Coast fishery sectors (intersector allocation); and consider draft alternatives and preliminary analyses associated with a contemplated limited entry licensing system for West Coast open access groundfish fisheries (open access license limitation). No management actions will be decided by the GAC. The GAC's role will be development of recommendations and refinement of draft alternatives for analysis in a contemplated environmental impact statement for trawl rationalization and two contemplated environmental assessments for intersector allocation and open access license limitation. The GAC recommendations will be provided for consideration by the Council at its March 2008 meeting in Sacramento, CA, and at its April 2008 meeting in Seattle, WA.

Although non-emergency issues not contained in the meeting agenda may come before the GAC for discussion, those issues may not be the subject of formal GAC action during this meeting. GAC action will be restricted to those issues specifically listed in this notice and any issues arising after publication of this notice that require emergency action under Section 305a) of the Magnuson-Stevens Fishery Conservation and Management Act, provided the public has been notified of the GAC's intent to take final action to address the emergency.

Special Accommodations

This meeting is physically accessible to people with disabilities. Requests for sign language interpretation or other auxiliary aids should be directed to Ms. Carolyn Porter at (503) 820-2280 at least 5 days prior to the meeting date.

Dated: January 25, 2008.
Tracey L. Thompson,
Acting Director, Office of Sustainable Fisheries, National Marine Fisheries Service.

[FR Doc. E8-1603 Filed 1-29-08; 8:45 am]

BILLING CODE 3510-22-S